DEPARTMENT OF TRANSPORTATION

Federal Aviation Administration

14 CFR Part 71

Proposed Amendment of Class C Airspace at Southwest Florida International Airport, FL; Public Meeting

AGENCY: Federal Aviation Administration (FAA), DOT

ACTION: Notice of meeting.

SUMMARY: This notice announces a fact-finding informal airspace meeting regarding a plan to amend Class C airspace at Southwest Florida International Airport, FL (KRSW). The purpose of the meeting is to provide relevant information about the proposal, and solicit aeronautical comments on its effects to local aviation operations. Comments received during the meeting, and the associated comment period, will be considered prior to the issuance of any notice of proposed rulemaking (NPRM).

DATES: The meeting will be held virtually on April 29, 2026, from 5:00 p.m. to 7:00 p.m. (Eastern Time). Comments must be received on or before May 29, 2026.

ADDRESSES: Send comments on the proposal to Andreese Davis, Acting Group Manager, Operations Support Group, Eastern Service Center, Air Traffic Organization, Federal Aviation Administration, 1701 Columbia Avenue, College Park, GA 30337; or via email to: 9-AJO-RSW-Class-C-Comments@FAA.gov.

FOR FURTHER INFORMATION CONTACT: Joseph E. Molsen, Air Traffic Manager, Fort Myers ATCT, 17201 Perimeter Road, Fort Myers, FL 33913. Telephone Number: 239-416-1002, email: Joseph.E.Molsen@faa.gov.

SUPPLEMENTARY INFORMATION:

Meeting Procedures

The meeting will provide interested parties an opportunity to present views, recommendations, and comments on the proposed airspace changes. This informal airspace meeting will be conducted in a virtual format using the Zoom teleconferencing tool. The meeting will also be recorded and available to watch on the FAA YouTube channel.

(a) Registration: To make a presentation at the meeting, you must register on or before April 28, 2026. To attend the meeting without making a presentation, the public can register here at any point prior to the start of the meeting: https://airportnetwork.zoom.us/webinar/register/WN_Hjo6XbosQxuX18748EU1vA.

(b) The meeting will be open to all persons. There will be no admission fee or other charge to attend and participate. The meeting will be informal in nature and conducted by one or more representatives of the FAA's Air Traffic Organization's Eastern Service Area. A representative from the FAA will present a briefing on the planned airspace prior to opening the meeting for public comments.

(c) Each participant will be given an opportunity to deliver comments or make a presentation, although a time limit may be imposed to accommodate other speakers and closing times. Only comments concerning the plan to amend the Southwest Florida International Airport Class C airspace area will be accepted.

(d) Each person wishing to make a presentation will be asked to note their intent when registering for the meeting so appropriate time limits, if any, can be established. This meeting will not be adjourned until everyone who pre-registered to speak has had an opportunity to address the panel. This meeting may be adjourned at any time if all persons who so desire have had an opportunity to speak.

(e) Position papers or other handout material relating to the substance of the meeting will be accepted. Participants submitting papers or handout materials should send them to the mail or email address noted in the ADDRESSES section above. Such material must be received on or before the May 29, 2026, comment deadline noted in the DATES section above.

(f) This meeting will be formally recorded and available on the FAA YouTube channel. A summary of the comments made at the meeting will be filed in the rulemaking docket.

Information gathered through this meeting will assist the FAA in considering the proposal and drafting an NPRM, if any, that would be published in the Federal Register. The public will be afforded a separate opportunity to comment on any NPRM published on this matter.

A graphic depiction of the proposed airspace modifications may be viewed at the following URL: www.faa.gov/go/swfla.

Agenda for the Meeting

• Presentation of Meeting Procedures

• Informal Presentation of the Proposed Class C Airspace area

• Public Presentations

• Discussions and Questions

• Closing Comments

Authority: 49 U.S.C. 106(f), 106(g), 40103, 40113, 40120; E.O.10854, 24 FR 9565, 3 CFR, 1959-1963 Comp., p. 389.

Issued in Washington, DC, on February 27, 2026.
Alex W. Nelson,
Manager, Rules and Regulations Group.

[FR Doc. 2026-04208 Filed 3-2-26; 8:45 am]

BILLING CODE 4910-13-P